DEPARTMENT OF DEFENSE

Department of the Army; Corps of Engineers

Intent To Prepare a Draft Environmental Impact Statement for the Combined Structural and Operational Plan, Broward and Miami-Dade Counties, FL

AGENCY: Department of the Army, U.S. Army Corps of Engineers, DOD.

ACTION: Notice of intent.

SUMMARY: The Jacksonville District, U.S. Army Corps of Engineers (Corps), intends to prepare a Draft Environmental Impact Statement (DEIS) for the Combined Structural and Operational Plan (CSOP) for the Central and Southern Florida Project, WCA-3A and B and the South Dade Conveyance System. The study is a cooperative effort between the Corps, Everglades National Park (ENP), U.S. Fish and Wildlife Service (USFWS), and South Florida Water Management District (SFWMD). CSOP is an integrated structural and operational plan for two modifications of the Central and South Florida (C&SF) Project: the Modified Water Deliveries to ENP (MWD) Project and the Canal-111 (C-111) Project. The objective of CSOP is to define the operations for these projects in a manner consistent with their respective project purposes.

ADDRESSES: U.S. Army Corps of Engineers, Planning Division, Environmental Branch, P.O. Box 4970, Jacksonville, FL 32232-0019.

FOR FURTHER INFORMATION CONTACT: Mr. Ernest Clarke at (904) 232-1199 or e-mail at ernest.clarke@saj02.usace.army.mil.

SUPPLEMENTARY INFORMATION: a. Authorization: The MWD General Design Memorandum (GDM) and EIS was completed 1992, in response to the ENP Protection and Expansion Act of 1989. The C-111 General Reevaluation Report (GRR) with integrated EIS was approved in 1994 and the C-111 project was authorized in the Water Resources Development Act of 1996.

b. Study Area: The study area is located in Broward and Miami-Dade Counties, FL, and includes Water Conservation Area 3, ENP and other areas designated in previous Corps' reports: 1992 MWD GDM and 1994 C-111 GRR.

c. Project Scope: The objective of CSOP is to define the operations for the MWD and C-111 projects in a manner consistent with their respective purposes. The primary goal of the MWD project is to construct structural modifications to the original C&SF project and define their operations to allow for ecosystem restoration through improved water deliveries to Shark River Slough in ENP. The primary goal of the C-111 project modifications is to allow the restoration of habitat in Taylor Slough and the eastern panhandle of ENP through new water management operations. Refinements to the authorized structural improvements for the C-111 project are being addressed in a separate engineering report. The scope of the current effort includes developing the evaluating alternative plans for achieving MWD and C-111 project goals.

d. Alternatives: Alternatives to be discussed involve various ways to convey water through the C&SF system. Alternatives will involve alteration of the management of existing C&SF features as well of structural modifications to MWD features that have been congressionally authorized but not built. The evaluation of the alternatives and selection of a recommended plan will be documented in the DEIS. The alternative plans will be reviewed under provisions of appropriate laws and regulations, including the Endangered Species Act, Fish and Wildlife Coordination Act, Clean Water Act, and Farmland Protection Policy Act.

e. Issues: The DEIS will address the following issues: the relation between this project and related projects including MWD, C-111, IOP, and 8.5 SMA; impacts to aquatic and wetland habitats; water flows; hazardous and toxic waste; water quality; flood protection; aesthetics and recreation; fish and wildlife resources, including protected species; cultural resources; and other impacts identified through scoping, public involvement and interagency coordination.

f. Public Involvement: A scoping meeting is not anticipated. A Public meeting will be held after release of the Draft RGRR/SEIS; the exact location, date, and times will be announced in a public notice and local newspapers.

g. DSEIS Preparation: The DEIS is expected to be available for public review in the 3rd quarter of CY 2007.

Branda S. Bowen,
Army Federal Register Liaison Officer.

[FR Doc. 07-280 Filed 1-23-07; 8:45 am]

BILLING CODE 3710-AJ-M